DEPARTMENT OF ENERGY

Federal Energy Regulatory Commission

Notice of Application for Transfer of License and Soliciting Comments, Motions To Intervene, and Protests

October 14, 2003.

Take notice that the following hydroelectric application has been filed with the Commission and is available for public inspection:

a. Application Type: Transfer of License.

b. Project No: 2233-044.

c. Date Filed: October 7, 2003.

d. Applicants: Portland General Electric Company (PGE) and Blue Heron Paper Company (BHPC).

e. Name and Location of Project: The Willamette Falls Hydroelectric Project is on the Willamette River in Clackamas County, Oregon. The project does not occupy Federal or tribal land.

f. Filed Pursuant to: Federal Power Act, 16 U.S.C. 791a-825r.

g. Applicant Contacts: Michael A. Siebers, Blue Heron Paper Company, 419 Main Street, Oregon City, OR 97045, (503) 650-4239, J. Mark Morford, Stoel Rives LLP, Suite 2300, 900 SW 5th Avenue, Portland, OR 97204-1278, and Julie A. Keil, Portland General Electric Company, 121 SW Salmon Street, Portland, OR 97204, (503) 464-8864.

h. FERC Contact: Regina Saizan, (202) 502-8765.

i. Deadline for filing comments, protests, and motions to intervene: October 31, 2003.

All documents (original and eight copies) should be filed with: Magalie R. Salas, Secretary, Federal Energy Regulatory Commission, 888 First Street, NE., Washington, DC 20426. Comments, protests, and interventions may be filed electronically via the Internet in lieu of paper; See 18 CFR 385.2001(a)(1)(iii) and the instructions on the Commission's Web site under the “e-Filing” link. The Commission strongly encourages electronic filings. Please include the project number (P-2233-044) on any comments or motions filed.

The Commission's Rules of Practice and Procedure require all interveners filing a document with the Commission to serve a copy of that document on each person in the official service list for the project. Further, if an intervener files comments or documents with the Commission relating to the merits of an issue that may affect the responsibilities of a particular resource agency, they must also serve a copy of the documents on that resource agency.

j. Description of Proposal: The applicants request Commission approval of the transfer of the project license from PGE and BHPC to PGE. Applicants state that PGE purchased assets, including assets related to the project, from BHPC pursuant to an agreement dated July 29, 2003, and that the transaction closed on August 15, 2003.

The transfer application was filed within five years of the expiration of the license for the project, which is the subject of a pending relicense application in Project No. 2233-043. In Hydroelectric Relicensing Regulations Under the Federal Power Act (54 FR 23,756; FERC Stats. and Regs., Regs. Preambles 1986-1990 30,854 at p. 31,437), the Commission declined to forbid all license transfers during the last five years of an existing license, and instead indicated that it would scrutinize all such transfer requests to determine if the transfer's primary purpose was to give the transferee an advantage in relicensing (id. at p. 31,438 n. 318).

k. Copies of this filing are on file with the Commission and are available for inspection and reproduction at the Commission's Public Reference Room, located at 888 First Street, NE., Room 2A, Washington, DC 20426. This filing may also be viewed on the web at http://www.ferc.gov using the “eLibrary” link. Enter the docket number (P-2233) to access the document. For assistance, call toll-free 1-866-208-3676 or e-mail FERCOnLineSupport@ferc.gov. For TTY, call (202) 502-8659. A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E3-00072 Filed 10-21-03; 8:45 am]

BILLING CODE 6717-01-P